SMALL BUSINESS ADMINISTRATION

Data Collection Available for Public Comments

AGENCY: U.S. Small Business Administration.

ACTION: 60 Day notice and request for comments.

SUMMARY: In accordance with the Paperwork Reduction Act of 1995, this notice announces the Small Business Administration's (SBA) intentions to request approval for an extension or revision of an approved information collection. The Paperwork Reduction Act (PRA) requires federal agencies to publish a notice in the Federal Register concerning each proposed collection of information before submission to OMB and to allow 60 days for public comment in response to the notice. This notice complies with that requirement.

DATES: Submit comments on or before November 10, 2025.

ADDRESSES: Send all comments regarding whether this information collection in necessary for the proper performance of the function of the agency, whether the burden estimates are accurate, and if there are ways to minimize the estimated burden and enhance the quality of the collections to Paul Van Eyl, Director of Financial Policy, Office of Investment and Innovation, U.S. Small Business Administration at oii.policy@sba.gov or 409 3rd Street SW, Washington, DC 20416.

FOR FURTHER INFORMATION CONTACT: Paul Van Eyl, Director of Financial Policy, Office of Investment and Innovation, U.S. Small Business Administration, oii.policy@sba.gov, 202-257-5955, or Shauniece Carter, Interim Agency Clearance Officer, U.S. Small Business Administration, shauniece.carter@sba.gov, 202-205-6536.

SUPPLEMENTARY INFORMATION: SBA Form 2181, Management Assessment Questionnaire and License Application (MAQ), which includes the Pre-screen SBIC MAQ (Short Form), SBIC MAQ (Long Form), SBIC Subsequent Fund MAQ and Exhibits A-G, provides SBA with the necessary information to make decisions regarding the approval or denial of an applicant for a small business investment company (SBIC) license. SBA uses this information to assess an applicant's ability to successfully operate an SBIC within the scope of the Small Business Investment Act of 1958, as amended.

SBA Form 2181 provides SBA with the information necessary to make informed and proper decisions regarding the approval or denial of an applicant for an SBIC license. The SBA Form 2181 requests qualitative and quantitative information on a proposed management team, the proposed strategy for the SBIC, and the principals' investment track record. SBA analyzes the information provided to determine whether the potential applicant is qualified for an SBIC license.

Solicitation of Public Comments

SBA invites the public to submit comments, including specific and detailed suggestions on ways to improve the collection and reduce the burden on respondents. Commenters should also address (i) whether the information collection is necessary for the proper performance of SBA's functions, including whether it has any practical utility; (ii) the accuracy of the estimated burdens; (iii) ways to enhance the quality, utility, and clarity of the information to be collected; and (iv) the use of automated collection techniques or other forms of information technology to minimize the information collection burden on those who are required to respond.

OMB Control Number: 3245-0062.

Title: SBIC Management Assessment Questionnaire & License Application; Exhibits to SBIC License App./Mgmt. Assessment Questionnaire.

Description of Respondents: Small Business Investment Company (SBIC) applicants.

Form Number: 2181, 2181 Pre-Screen, 2181 Long Form, 2181 Subsequent Fund, and 2181 Exhibits A-G.

Estimated Annual Respondents: 325.

Estimated Annual Hour Burden: 21,749.

Shauniece Carter,
Interim Agency Clearance Officer.

[FR Doc. 2025-17539 Filed 9-10-25; 8:45 am]

BILLING CODE 8026-09-P